DEPARTMENT OF ENERGY

Office of Energy Efficiency and Renewable Energy

[DE-FOA-0001188]

Electrolytic Hydrogen Production Workshop Report: Public Comment

AGENCY: Office of Energy Efficiency and Renewable Energy, Department of Energy (DOE).

ACTION: Notice of posting for public comment, a Request for Information (RFI) on Electrolytic Hydrogen Production Workshop Report.

SUMMARY: The Department of Energy (DOE), Office of Energy Efficiency and Renewable Energy (EERE) invites public comment on its Request for Information (RFI) number DE-FOA-0001188 regarding feedback on the summary report for the Electrolytic Hydrogen Production Workshop held at the National Renewable Energy Laboratory in February, 2014. The RFI document is posted at https://eere-exchange.energy.gov/.

The purpose of this RFI is to solicit feedback from industry, academia, research laboratories, government agencies, and other stakeholders on issues related to electrolytic hydrogen production pathways, specifically with respect to the Electrolytic Hydrogen Production Workshop Report. EERE is interested both in information on the current status of electrolytic hydrogen production pathways, technologies, and their potential to meet DOE cost goals as well as feedback on the content of the report, including the key R&D needs as determined by the participants. EERE is also interested in the community's opinion of the electrolysis technologies that have the most potential to produce low cost hydrogen that meets DOE goals.

This is solely a Request for Information and not a Funding Opportunity Announcement (FOA). EERE is not accepting applications at this time.

DATES: Responses to the RFI must be received on or before October 30th, 2014 at 5:00 p.m. ET.

ADDRESSES: The complete RFI document is located at https://eere-exchange.energy.gov/.

FOR FURTHER INFORMATION CONTACT: Responses to the RFI and questions should be sent via email or email attachment to h2workshop@ee.doe.gov. Further instructions can be found in the RFI document posted on EERE Exchange.

SUPPLEMENTARY INFORMATION: The RFI is not a Funding Opportunity Announcement (FOA); therefore, EERE is not accepting applications at this time. EERE may issue a FOA in the future based on or related to the content and responses to the RFI; however, EERE may also elect not to issue a FOA. There is no guarantee that a FOA will be issued as a result of the RFI. Responding to the RFI does not provide any advantage or disadvantage to potential applicants if EERE chooses to issue a FOA regarding the subject matter. Final details, including the anticipated award size, quantity, and timing of EERE funded awards, will be subject to Congressional appropriations and direction.

Any information obtained as a result of the RFI is intended to be used by the Government on a non-attribution basis for planning and strategy development; the RFI does not constitute a formal solicitation for proposals or abstracts. Responses to the RFI will be treated as information only. EERE will review and consider all responses in its formulation of program strategies for the identified materials of interest that are the subject of this request. EERE will not provide reimbursement for costs incurred in responding to the RFI. Respondents are advised that EERE is under no obligation to acknowledge receipt of the information received or provide feedback to respondents with respect to any information submitted under the RFI. Responses to the RFI do not bind EERE to any further actions related to this topic.

Issued in Washington, DC, on October 16, 2014.
Sunita Satyapal,
Director, Fuel Cell Technologies Office.

[FR Doc. 2014-25141 Filed 10-21-14; 8:45 am]

BILLING CODE 6450-01-P